DEPARTMENT OF HOMELAND SECURITY

Coast Guard

33 CFR Part 165

[Docket No. USCG-2024-1072]

Safety Zone; Military Ocean Terminal Concord Safety Zone, Suisun Bay, Concord, CA

AGENCY: Coast Guard, DHS.

ACTION: Notification of enforcement of regulation.

SUMMARY: The Coast Guard will enforce a safety zone in the navigable waters of the Suisun Bay, off Concord, CA, in support of explosive handling operations at Military Ocean Terminal Concord (MOTCO) on December 12, 2024, through December 19, 2024. This safety zone is necessary to protect personnel, vessels, and the marine environment from potential explosions within the explosive arc. The safety zone is open to all persons and vessels for transitory use, but vessel operators desiring to anchor within the safety zone must obtain the permission of the Captain of the Port (COTP) San Francisco or a designated representative.

DATES: The regulations in 33 CFR 165.1198 will be enforced without actual notice from 12:01 a.m. on December 13, 2024, until 11:59 p.m. on December 19, 2024. For purposes of enforcement, we will use actual notice to enforce the regulations in 33 CFR 165.1198 on December 12, 2024.

FOR FURTHER INFORMATION CONTACT: If you have questions about this notification of enforcement, call or email Lieutenant William Harris, U.S. Coast Guard Sector San Francisco, Waterways Management Division, at (415) 399-7443, SFWaterways@uscg.mil.

SUPPLEMENTARY INFORMATION: The Coast Guard will enforce the safety zone in 33 CFR 165.1198 for the Military Ocean Terminal Concord, CA (MOTCO) regulated area from 12:01 a.m. on December 12, 2024, until 11:59 p.m. on December 19, 2024. This safety zone is necessary to protect personnel, vessels, and the marine environment from potential explosion within the explosive arc. The regulation for this safety zone, § 165.1198, specifies the locations of the safety zone which encompasses the navigable waters in the area between 500 yards of MOTCO Pier 2 in position 38°03′30″ N, 122°01′14″ W and 3,000 yards of the pier. During the enforcement period, as reflected in § 165.1198(d), if you are the operator of a vessel in the regulated area you must comply with the instructions of the COTP or the designated on-scene patrol personnel. Vessel operators desiring to anchor or otherwise loiter within the safety zone must contact Sector San Francisco Vessel Traffic Service at (415) 399-7410, or VHF Channel 14 to obtain permission.

In addition to this notification of enforcement in the Federal Register, the Coast Guard plans to provide notification of this enforcement period via Broadcast Notice to Mariners.

Dated: December 10, 2024.
Jordan M. Baldueza,
Captain, U.S. Coast Guard, Captain of the Port San Francisco.

[FR Doc. 2024-29520 Filed 12-13-24; 8:45 am]

BILLING CODE 9110-04-P